DEPARTMENT OF THE TREASURY

Alcohol and Tobacco Tax and Trade Bureau

27 CFR Part 9

[Docket No. TTB-2023-0008; Notice No. 226]

RIN 1513-AD00

Proposed Establishment of the Nine Lakes of East Tennessee Viticultural Area

AGENCY: Alcohol and Tobacco Tax and Trade Bureau, Treasury.

ACTION: Notice of proposed rulemaking.

SUMMARY: The Alcohol and Tobacco Tax and Trade Bureau (TTB) proposes establishing the approximately 4,064-square mile “Nine Lakes of East Tennessee” viticultural area in northeastern Tennessee. The proposed viticultural area is not within any other established viticultural area. TTB designates viticultural areas to allow vintners to better describe the origin of their wines and to allow consumers to better identify wines they may purchase. TTB invites comments on this proposed addition to its regulations.

DATES: Comments must be received by November 20, 2023.

ADDRESSES: You may submit comments to TTB on this proposal electronically using the comment form for this document posted within Docket No. TTB-2023-0008 on the Regulations.gov website at https://www.regulations.gov. At the same location, you also may view copies of this document, the related petition and selected supporting materials, and any comments TTB receives on this proposal. A direct link to that docket is available on the TTB website at https://www.ttb.gov/wine/notices-of-proposed-rulemaking under Notice No. 226. Alternatively, you may submit comments via postal mail to the Director, Regulations and Ruling Division, Alcohol and Tobacco Tax and Trade Bureau, 1310 G Street NW, Box 12, Washington, DC 20005. Please see the Public Participation section of this document for further information on the comments requested on this proposal and on the submission, confidentiality, and public disclosure of comments.

FOR FURTHER INFORMATION CONTACT: Karen A. Thornton, Regulations and Rulings Division, Alcohol and Tobacco Tax and Trade Bureau, 1310 G Street NW, Box 12, Washington, DC 20005; phone 202-453-1039, ext. 175.

SUPPLEMENTARY INFORMATION:

Background on Viticultural Areas

TTB Authority

Section 105(e) of the Federal Alcohol Administration Act (FAA Act), 27 U.S.C. 205(e), authorizes the Secretary of the Treasury to prescribe regulations for the labeling of wine, distilled spirits, and malt beverages. The FAA Act provides that these regulations should, among other things, prohibit consumer deception and the use of misleading statements on labels and ensure that labels provide the consumer with adequate information as to the identity and quality of the product. The Alcohol and Tobacco Tax and Trade Bureau (TTB) administers the FAA Act pursuant to section 1111(d) of the Homeland Security Act of 2002, codified at 6 U.S.C. 531(d). In addition, the Secretary of the Treasury has delegated certain administrative and enforcement authorities to TTB through Treasury Order 120-01.

Part 4 of the TTB regulations (27 CFR part 4) authorizes TTB to establish definitive viticultural areas and regulate the use of their names as appellations of origin on wine labels and in wine advertisements. Part 9 of the TTB regulations (27 CFR part 9) sets forth standards for the preparation and submission of petitions for the establishment or modification of American viticultural areas (AVAs) and lists the approved AVAs.

Definition

Section 4.25(e)(1)(i) of the TTB regulations (27 CFR 4.25(e)(1)(i)) defines a viticultural area for American wine as a delimited grape-growing region having distinguishing features as described in part 9 of the regulations and, once approved, a name and a delineated boundary codified in part 9 of the regulations. These designations allow vintners and consumers to attribute a given quality, reputation, or other characteristic of a wine made from grapes grown in an area to the wine's geographic origin. The establishment of AVAs allows vintners to describe more accurately the origin of their wines to consumers and helps consumers to identify wines they may purchase. Establishment of an AVA is neither an approval nor an endorsement by TTB of the wine produced in that area.

Requirements

Section 4.25(e)(2) of the TTB regulations (27 CFR 4.25(e)(2)) outlines the procedure for proposing an AVA and allows any interested party to petition TTB to establish a grape-growing region as an AVA. Section 9.12 of the TTB regulations (27 CFR 9.12) prescribes standards for petitions to establish or modify AVAs. Petitions to establish an AVA must include the following:

• Evidence that the area within the proposed AVA boundary is nationally or locally known by the AVA name specified in the petition;

• An explanation of the basis for defining the boundary of the proposed AVA;

• A narrative description of the features of the proposed AVA affecting viticulture, such as climate, geology, soils, physical features, and elevation, that make the proposed AVA distinctive and distinguish it from adjacent areas outside the proposed AVA;

• The appropriate United States Geological Survey (USGS) map(s) showing the location of the proposed AVA, with the boundary of the proposed AVA clearly drawn thereon; and

• A detailed narrative description of the proposed AVA boundary based on USGS map markings.

Nine Lakes of East Tennessee Petition

TTB received a petition from the Appalachian Region Wine Producers Association, proposing the establishment of the “Nine Lakes of East Tennessee” AVA. The proposed Nine Lakes of East Tennessee AVA is in Anderson, Blount, Campbell, Claiborne, Cocke, Grainger, Hamblen, Jefferson, Knox, Loudon, Monroe, Roane, Sevier, and Union Counties, in Tennessee. The proposed AVA contains approximately 4,064 square miles (2,601,390 acres), with 232 acres of planted vineyards spread throughout the proposed AVA. There are also 29 wineries within the proposed AVA. According to the petition, there is at least one vineyard in each of the counties within the proposed AVA and a winery in all but two of the counties, demonstrating that commercial viticulture and winemaking take place throughout the entire proposed AVA.

According to the petition, the distinguishing features of the proposed Nine Lakes of East Tennessee AVA include its geology, soils, topography, and climate. Unless otherwise noted, all information and data pertaining to the proposed AVA is from the petition and its supporting exhibits.

Name Evidence

The petition states that the proposed Nine Lakes of East Tennessee AVA is located entirely within the watershed of the Tennessee River and its tributaries. Within the region of the proposed AVA are nine lakes formed when the Tennessee Valley Authority (TVA) dammed the rivers to resolve issues with flooding, reforestation, and electricity production. According to the petition, the region has also been historically known as the Great Valley of East Tennessee. However, the petitioners chose not to propose that name as the Great Valley encompasses a much larger region than the proposed AVA. Because the proposed AVA only includes the area around the nine lakes created by the TVA, the petitioners believe that the name “Nine Lakes of East Tennessee” is a more appropriate, succinct, and descriptive name for the proposed AVA.

The petition included evidence showing use of the “Nine Lakes of East Tennessee” name to describe the region of the proposed AVA. The petition contained a visitor's guide to eastern Tennessee titled “9 Lakes of East Tennessee.” A website called “Nine Lakes Wine Country” provides information on the vineyards and wineries of the proposed AVA,¹ and the annual “Nine Lakes Wine Festival” showcases wines made in the proposed AVA.² A tourism website for the region encourages visitors to “[e]xplore all the 9 Lakes of East Tennessee Region has to offer you.” ³ Another tourism website's page on pet-friendly activities in Tennessee notes, “The communities surrounding Norris Lake, Cherokee Lake, Melton Hill Lake, Douglas Lake, Watts Bar Lake, Fort Loudon Lake, Tellico Lake, and Chilhowee & Calderwood Lakes—dubbed the 9 Lakes region—is a dog-friendly area that welcomes furry friends.” ⁴ A 2021 Smoky Mountain Living Magazine article notes, “The 9 Lakes Region of East Tennessee is a road trip destination well known for its winding roads, mountain vistas, sparkling lakes, and beautiful waterfalls.” ⁵ The tourism website for the town of Farragut, Tennessee, located within the proposed AVA, features “The 9 Lakes Region” on its list of places to visit.⁶ An advertisement for a Tennessee plumbing company urges water conservation in the home by noting, “Between the Mighty Mississippi on the west and the 9 Lakes Region on the east, Tennessee is rich in water resources.” ⁷ A 2019 USA Today story about tourism in Tennessee states that the “9 Lakes Region provide[s] scenic views . . . .” ⁸

¹ www.ninelakeswinecountry.com.

² www.ninelakeswinefestival.com.

³ easttnvacations.com.

⁴ tnvacation.com/articles/pet-friendly-places-explore-tennessee.

⁵ smliv.com/travel/east-tennessee-road-trips.

⁶ Visitfarragut.org/stay.

⁷ https://www.benjaminfranklinplumbing.com/nashville/about-us/blog/2021/august/16-tips-to-conserve-water/.

⁸ traveltips.usatoday.com/tourism-tennessee-14618.html.

Boundary Evidence

According to the petition, Tennessee is divided into three main regions: East, Middle, and West. East Tennessee is further divided into three geographic regions—the Blue Ridge Mountains, the Valley and Ridge Province, and the Cumberland Plateau region. The proposed Nine Lakes of East Tennessee AVA is located entirely within the Valley and Ridge Province and includes all or portions of the 14 counties that surround the nine lakes formed by TVA dams along the Tennessee River. The proposed northern boundary is formed by the Tennessee-Virginia State line to exclude counties in Virginia, which are not associated with the name “Nine Lakes of East Tennessee.” The proposed northern boundary also includes a portion of the Cumberland Gap National Historical Park boundary and excludes the park from the proposed AVA. The proposed eastern and southeastern boundaries follow county lines, National Park boundaries, and National Forest boundaries to exclude the Cherokee National Forest and the Great Smoky Mountain National Park, which are not available for commercial viticulture due to their status as public lands. The proposed southwestern and western boundaries generally follow county lines to exclude portions of the counties that are associated with the Cumberland Plateau or Cumberland Escarpment, rather than the Valley and Ridge Province and the nine lakes of the Tennessee River.

Distinguishing Features

The distinguishing features of the proposed Nine Lakes of East Tennessee AVA include its geology, soils, topography, and climate.

Geology

The geology of the proposed Nine Lakes of East Tennessee AVA consists almost entirely of sedimentary rocks initially deposited during the Paleozoic era, when an ocean covered much of eastern North America. The bedrock consists of alternating beds of limestone, dolomite, shale, and sandstone. As the Euro-African tectonic plate and the North American tectonic plate collided, the sediments and rock between them folded and fractured, resulting in the southwest-to-northeast orientation of the ridges and valleys within the proposed AVA. The petition states that this orientation of the ridges and valleys provides vineyard owners the ability to select locations with slope aspects which allow for first light on the vineyards to dry the heavy dew and thus help in disease prevention. Additionally, the slope aspects shade the vines from the evening sun and thus prevent excessive heat on the grape clusters.

The petition states that the geology to the north and south of the proposed AVA is similar to that of the proposed AVA, given that all three locations are within the Valley and Ridge Province. To the east of the proposed AVA is the Appalachian Mountain system, which is comprised of Lower Paleozoic limestone, dolomite, and shale with exposures of Precambrian igneous and metamorphic basement rocks such as tuff, rhyolite, granite, schist, and quartzite, as well as Precambrian sedimentary and metamorphic sandstone, conglomerate, arkose, and siltstone. To the west of the proposed AVA are the Cumberland Plateau and Cumberland Escarpment, which are the results of the continental collisions uplifting highly resistant caprock of Pennsylvanian age sandstone and conglomerate.

Soils

The soils of the proposed Nine Lakes of East Tennessee AVA are categorized in the Ultisols soil order. According to the petition, soils of this order are characterized as “strongly leached, acid forest soils with low native fertility” and have clay-enriched subsoil. Because of the acidity and low fertility of the soils, the petition states that timely application of fertilizer and lime in vineyards are important in maximizing grape yields. The depth of these soils ranges from shallow on the sandstone and shale ridges to very deep in the valleys and on large limestone formations. The soils have an udic soil moisture regime, meaning that the amount of stored moisture plus rainfall is approximately equal to or exceeds the amount of evapotranspiration. The soil temperature is predominantly thermic, meaning that at a depth of 20 inches, the soils have an average annual temperature of 59 to 72 degrees Fahrenheit (F).

To the north and south of the proposed AVA, the soils are similar, because all three regions are in the Valley and Ridge Province. To the east of the proposed AVA, in the Blue Ridge Mountains, soils are commonly well-drained and acidic and can be shallow to very deep. The primary soil order is Inceptisols (which lack significant clay accumulation in the subsoils) and, to a significantly lesser extent, Ultisols. The soils have an udic soil moisture regime, and the soil temperature regime is mesic (average annual soil temperature of 47 to 59 degrees F) or frigid (average annual soil temperature lower than 46.4 degrees F). West of the proposed AVA, in the Cumberland Plateau and Cumberland Escarpment, the main soil orders are Inceptisols and Ultisols with a thermic or mesic soil temperature regime and an udic soil moisture regime.

Topography

As previously discussed, the proposed Nine Lakes of East Tennessee AVA is within the Valley and Ridge geologic province and is characterized by very long linear valleys paralleled by ridges, all running northeast to southwest. Within the proposed AVA, elevations range between 1,100 to 1,500 feet in the ridges and 700 to 1,000 feet in the valleys. The Valley and Ridge Province continues to the north and south of the proposed AVA. However, the petition notes that elevations in the northern portion of the Valley and Ridge Province are higher than within the proposed AVA, and elevations in the southern portion of the province are lower. East of the proposed AVA are the Blue Ridge Mountains, with elevations between 1,000 and 6,643 feet. West of the proposed AVA is the Cumberland Plateau and Cumberland Escarpment, which have average elevations between 1,500 and 1,800 feet. According to the petition, the proposed AVA's location between higher elevations to the east and west have an effect on climate, which is discussed in more detail in the following section.

Climate

According to the petition, due to the influence of elevation, the proposed Nine Lakes of East Tennessee AVA is generally warmer than all surrounding regions except the region to the south. The petition states that, in general, temperatures decrease an average of three degrees F for every 1,000 feet in elevation, meaning that the higher-elevation regions to the north, east, and west of the proposed AVA can be expected to have generally cooler climates than the proposed AVA. The regions to the south and southwest of the proposed AVA, which have lower elevations, are generally warmer than the proposed AVA. The petition describes the proposed AVA's climate as “well-suited to growing a wide variety of wine grapes, including vinifera, hybrid, native, and muscadine varietals.” The petition notes that grape varietals grown in warm climates, like that of the proposed AVA, generally produce “bigger, bolder wines with higher alcohol, soft acidity, a fuller body, and more dark or lush fruit flavors.” By contrast, grapes grown in cooler climates often produce wines “that are more subtle with lower alcohol, crisp acidity, a lighter body, and typically bright fruit flavors.”

To support the climate claims, the petition includes data on the growing season length, average maximum and minimum temperatures, growing degree days (GDDs),⁹ USDA plant hardiness zones, and precipitation amounts for the proposed AVA and each of the surrounding regions. The petition gathered data from 12 weather stations within the proposed AVA and 16 weather stations outside the proposed AVA.¹⁰ The following tables, which were included in the petition, summarize the climate data for the locations within the proposed AVA and the surrounding regions.

⁹ See Albert J. Winkler, General Viticulture (Berkeley: University of California Press, 1974), pages 61-64. In the Winkler climate classification system, annual heat accumulation during the growing season, measured in annual Growing Degree Days (GDDs), defines climatic regions. One GDD accumulates for each degree Fahrenheit that a day's mean temperature is above 50 degrees F, the minimum temperature required for grapevine growth. The Winkler scale regions are as follows: Region Ia, 1,500-2,000 GDDs; Region Ib, 2,000-2,500 GDDs; Region II, 2,500-3,000 GDDs; Region III, 3,000-3,500 GDDs; Region IV, 3,500-4,000 GDDs; Region V, 4,000-4,900 GDDs.

¹⁰ Twelve stations were within the proposed AVA: 4 to the northeast; 2 each to the east, south, and southwest; and 3 each to the west and northeast. For a map showing the location of each weather station, see the map prior to the tables in the petition as well as Table 1 in the petition, which is posted in Docket No. TTB-2023-0008 at https://www.regulations.gov.

Table 1—Mean Growing Season ¹¹ Length in Days
Region ¹² | Minimum | Maximum | Mean
Within Proposed AVA | 188 | 233 | 212.8
Northeast | 169 | 220 | 202
East | 190 | 200 | 190
South | 217 | 242 | 229.5
Southwest | 227 | 227 | 227
West | 205 | 227 | 212.33
Northwest | 194 | 209 | 201.5

The growing season data indicates that the average growing season in the proposed Nine Lakes of East Tennessee AVA is longer than the growing seasons in each of the surrounding regions except the regions to the south and southwest.

¹¹ Defined as the period between last spring frost and first fall frost.

¹² Growing season data was not available for the Jefferson City and Kingston stations within the proposed AVA, the Mt. LeConte station to the east, the Sewanee station to the southwest, and the Newcomb station to the northwest. For individual station growing season data, see Table 5 in the petition, which is posted in Docket No. TTB-2023-0008 at https://www.regulations.gov.

Table 2—Average Growing Season Growing Degree Day Accumulations ¹³
Region | GDD accumulation | Winkler climate region
Within proposed AVA | 3,837 | IV
Northeast | 3,374 | III
East | 1,905 | II
South | 4,323 | V
Southwest | 3,733 | IV
West | 3,804 | IV
Northwest | 3,329 | III

Although climate of the proposed AVA can be classified as a Winkler Region IV, which is similar to that of the regions to the southwest and west, the proposed AVA accumulates more GDDs overall than each of the surrounding regions except the region to the south.

¹³ For average monthly and growing season GDD accumulations for each location, see Table 7 in petition, which is posted in Docket No. TTB-2023-0008 at https://www.regulations.gov.

¹⁴ For average monthly maximum and minimum temperatures for each location, see Tables 2 and 3 in the petition, which is posted in Docket No. TTB-2023-0008 at https://www.regulations.gov.

¹⁵ For average monthly growing season temperatures for each location, see Table 4 in the petition, which is posted in Docket No. TTB-2023-0000 at https://www.regulations.gov.

Table 3—Average Maximum and Minimum Annual Temperatures ¹⁴
Region | Average maximum temperature | Average minimum temperature
Within proposed AVA | 69 | 45
Northeast | 67 | 43
East | 60 | 38
South | 71 | 48
Southwest | 66 | 47
West | 68 | 46
Northwest | 66 | 44

Table 4—Average Growing Season (April-October) Temperatures ¹⁵ and Plant Hardiness Zones
Region | Average growing season temperature | Plant hardiness zone
Within proposed AVA | 67 | 7a
Northeast | 65 | 6b
East | 58 | 6b
South | 70 | 7b
Southwest | 67 | 7a
West | 67 | 6b
Northwest | 65 | 6b

The petition states that temperatures within the proposed AVA will vary due to elevation, with the low valleys being warmer than the higher ridges. Overall, minimum temperatures in the proposed AVA are higher than each of the surrounding regions except the regions to the south, southwest, and west. Maximum temperatures within the proposed AVA are higher than each region except the south. The average growing season temperature within the proposed AVA is the same as in the regions to the southwest and west, lower than the region to the south, and higher than in the regions to the east, northeast, and northwest.

The proposed AVA is categorized in hardiness zone 7a, meaning that annual extreme minimum temperatures are between 5 and 0 degrees F. The higher-elevation regions to the east, northeast, west, and northeast, are in zone 6b, meaning that annual extreme minimum temperatures are lower than within the proposed AVA. The lower-elevation region to the south of the proposed AVA is in zone 7b, which has higher annual extreme minimum temperatures than the proposed AVA.

Finally, the petition provided information on the average annual, growing season, and winter precipitation amounts for locations within the proposed Nine Lakes of East Tennessee AVA and the surrounding regions.

Table 5—Precipitation Amounts
[In inches] ¹⁶
Region | Growing season precipitation ¹⁷ | Winter precipitation ¹⁸ | Annual precipitation ¹⁹
Within proposed AVA | 28.57 | 13.84 | 51.09
Northeast | 25.75 | 11.15 | 43.76
East | 34.96 | 13.78 | 58.12
South | 28.56 | 14.65 | 53.16
Southwest | 33.13 | 16.09 | 60.19
West | 30.11 | 14.50 | 54.48
Northwest | 30.66 | 13.74 | 53.45

According to the petition, the higher elevations of the Cumberland Plateau to the west and northwest of the proposed AVA and the Blue Ridge Mountains to the east of the proposed AVA act as a shield to block the heaviest rainfall from entering the proposed Nine Lakes of East Tennessee AVA. The proposed AVA receives less rainfall annually and during the growing season than each of the surrounding regions except the region to the northeast. The region to the south of the proposed AVA has similar growing season rainfall amounts, but still has greater annual rainfall amounts. The petition also notes that the lowest rainfall amounts in the proposed AVA occur in August, September, and October, which aids in the ripening and harvest of the grapes; only the region to the northeast has lower precipitation amounts during those three months.

¹⁶ For average monthly precipitation amounts for each location, see Table 8 in the petition, which is posted in Docket No. TTB-2023-0008 at https://www.regulations.gov.

¹⁷ Defined in the petition as April through October.

¹⁸ Defined in the petition as December, January, and February.

¹⁹ Defined as the total precipitation from all 12 months.

Summary of Distinguishing Features

In summary, the geology, soils, topography, and climate of the proposed Nine Lakes of East Tennessee AVA distinguish it from the surrounding regions. The following table shows the characteristics of the proposed AVA compared to the features of the surrounding regions.

Table 6—Features of Proposed AVA and Surrounding Regions
Region (location) | Features: Geology | Features: Soils | Features: Topography | Features: Climate
Proposed AVA | Valley and Ridge Province; sedimentary rocks initially deposited during the Paleozoic era; bedrock of alternating beds of limestone, dolomite, shale, and sandstone | Ultisols soil order; udic soil moisture regime; thermic soil temperature regime; strongly leached, acid forest soils with low native fertility; depth ranges from shallow to very deep | Elevations between 700 and 1,500 feet; long, linear valleys paralleled by ridges; northeast-to-southwest orientation | Mean growing season length of 212.8 days; 3,837 GDDs (Region IV); average Maximum temperature 69 degrees F; average minimum temperature 45 degrees F; average growing season temperature 67 degrees F; plant hardiness zone 7a; average growing season precipitation 28.57 inches; average winter precipitation 13.84 inches; average annual precipitation 51.09 inches.
North | Similar to proposed AVA | Similar to proposed AVA | Higher elevations | N/A.
Northeast | N/A | N/A | N/A | Mean growing season length of 202 days; 3,374 GDDs (Region III); Average maximum temperature 67 degrees F; average minimum temperature 43 degrees F; average growing season temperature 65 degrees F; plant hardiness zone 6b; average growing season precipitation 25.75 inches; average winter precipitation 11.15 inches; average annual precipitation 43.76 inches.
East | Appalachian Mountain system; comprised of Lower Paleozoic limestone, dolomite, and shale with exposures of Precambrian igneous and metamorphic basement rocks such as tuff, rhyolite, granite, schist, and quartzite, as well as Precambrian sedimentary and metamorphic sandstone, conglomerate, arkose, and siltstone | Primarily Inceptisols soil order with some Ultisols; udic soil moisture regime; mesic or frigid soil temperature regime; well-drained, acidic soils | Elevations between 1,000 and 6,643 feet | Mean growing season length of 190 days; 1,905 GDDs (Region II); average maximum temperature 60 degrees F; average minimum temperature 38 degrees F; average growing season temperature 58 degrees F; plant hardiness zone 6b; average growing season precipitation 34.96 inches; average winter precipitation 13.78 inches; average annual precipitation 58.12 inches.
South | Similar to proposed AVA | Similar to proposed AVA | Lower elevations | Mean growing season length of 229.5 days; 4,323 GDDs (Region V); Average maximum temperature 71 degrees F; average minimum temperature 48 degrees F; average growing season temperature 70 degrees F; plant hardiness zone 7b; average growing season precipitation 28.56; average winter precipitation 14.65 inches; average annual precipitation 53.16 inches.
Southwest | N/A | N/A | N/A | Mean growing season length of 227 days; 3,733 GDDs (Region IV); average maximum temperature 66 degrees F; average minimum temperature 47 degrees F; average growing season temperature 67 degrees; plant hardiness zone 7a; average growing season precipitation 33.13 inches; average winter precipitation 16.09 inches; average annual precipitation 60.19 inches.
West | Cumberland Plateau and Cumberland Escarpment; highly resistant caprock of Pennsylvanian age sandstone and conglomerate | Inceptisols and Ultisols soil orders; thermic or mesic soil temperature regime; udic soil moisture regime | Elevations between 1,500 and 1,800 feet | Mean growing season length of 212.33 days; 3,804 GDDs (Region IV); average maximum temperature 68 degrees F; average minimum temperature 46 degrees F; average growing season temperature 67 degrees F; plant hardiness zone 6b; average growing season precipitation 30.11 inches; average winter precipitation 14.50 inches; average annual precipitation 54.48 inches.
Northwest | N/A | N/A | N/A | Mean growing season length of 201.5 days; 3,329 GDDs (Region III); average maximum temperature 66 degrees F; average minimum temperature 44 degrees F; average growing season temperature 65 degrees F; plant hardiness zone 6b; average growing season precipitation 30.66; average winter precipitation 13.74 inches; average annual precipitation 53.45 inches.

TTB Determination

TTB concludes that the petition to establish the proposed Nine Lakes of East Tennessee AVA merits consideration and public comment, as invited in this notice of proposed rulemaking.

Boundary Description

See the narrative description of the boundary of the petitioned-for AVA in the proposed regulatory text published at the end of this proposed rule.

Maps

The petitioner provided the required maps, and TTB lists them below in the proposed regulatory text. You may also view the proposed Nine Lakes of East Tennessee AVA boundary on the AVA Map Explorer on the TTB website, at https://www.ttb.gov/wine/ava-map-explorer.

Impact on Current Wine Labels

Part 4 of the TTB regulations prohibits any label reference on a wine that indicates or implies an origin other than the wine's true place of origin. For a wine to be labeled with an AVA name, at least 85 percent of the wine must be derived from grapes grown within the area represented by that name, and the wine must meet the other conditions listed in § 4.25(e)(3) of the TTB regulations (27 CFR 4.25(e)(3)). If the wine is not eligible for labeling with an AVA name and that name appears in the brand name, then the label is not in compliance and the bottler must change the brand name and obtain approval of a new label. Similarly, if the AVA name appears in another reference on the label in a misleading manner, the bottler would have to obtain approval of a new label. Different rules apply if a wine has a brand name containing an AVA name that was used as a brand name on a label approved before July 7, 1986. See § 4.39(i)(2) of the TTB regulations (27 CFR 4.39(i)(2)) for details.

If TTB establishes this proposed AVA, its name, “Nine Lakes of East Tennessee,” will be recognized as a name of viticultural significance under § 4.39(i)(3) of the TTB regulations (27 CFR 4.39(i)(3)). The text of the proposed regulation clarifies this point. Consequently, wine bottlers using the name “Nine Lakes of East Tennessee” in a brand name, including a trademark, or in another label reference as to the origin of the wine, would have to ensure that the product is eligible to use the AVA name as an appellation of origin if TTB adopts this proposed rule as a final rule.

Public Participation

Comments Invited

TTB invites comments from interested members of the public on whether it should establish the proposed Nine Lakes of East Tennessee AVA. TTB is also interested in receiving comments on the sufficiency and accuracy of required information submitted in support of the petition. Please provide specific information in support of your comments.

Because of the potential impact of the establishment of the proposed Nine Lakes of East Tennessee AVA on wine labels that include the term “Nine Lakes of East Tennessee” as discussed above under Impact on Current Wine Labels, TTB is particularly interested in comments regarding whether there will be a conflict between the proposed AVA name and currently used brand names. If a commenter believes that a conflict will arise, the comment should describe the nature of that conflict, including any anticipated negative economic impact that approval of the proposed AVA will have on an existing viticultural enterprise. TTB is also interested in receiving suggestions for ways to avoid conflicts, for example, by adopting a modified or different name for the proposed AVA.

Submitting Comments

You may submit comments on this proposal as an individual or on behalf of a business or other organization via the Regulations.gov website or via postal mail, as described in the ADDRESSES section of this document. Your comment must reference Notice No. 226 and must be submitted or postmarked by the closing date shown in the DATES section of this document. You may upload or include attachments with your comment. You also may request a public hearing on this proposal. The TTB Administrator reserves the right to determine whether to hold a public hearing.

Confidentiality and Disclosure of Comments

All submitted comments and attachments are part of the rulemaking record and are subject to public disclosure. Do not enclose any material in your comments that you consider confidential or that is inappropriate for disclosure.

TTB will post, and you may view, copies of this document, the related petition and selected supporting materials, and any comments TTB receives about this proposal within the related Regulations.gov docket. In general, TTB will post comments as submitted, and it will not redact any identifying or contact information from the body of a comment or attachment.

Please contact TTB's Regulations and Rulings division by email using the web form available at https://www.ttb.gov/contact-rrd, or by telephone at 202-453-2265, if you have any questions about commenting on this proposal or to request copies of this document, the related petition and its supporting materials, or any comments received.

Regulatory Flexibility Act

TTB certifies that this proposed regulation, if adopted, would not have a significant economic impact on a substantial number of small entities. The proposed regulation imposes no new reporting, recordkeeping, or other administrative requirement. Any benefit derived from the use of a viticultural area name would be the result of a proprietor's efforts and consumer acceptance of wines from that area. Therefore, no regulatory flexibility analysis is required.

Executive Order 12866

It has been determined that this proposed rule is not a significant regulatory action as defined by Executive Order 12866 of September 30, 1993. Therefore, no regulatory assessment is required.

List of Subjects in 27 CFR Part 9

Wine.

Proposed Regulatory Amendment

For the reasons discussed in the preamble, TTB proposes to amend title 27, chapter I, part 9, Code of Federal Regulations, as follows:

PART 9—AMERICAN VITICULTURAL AREAS

1. The authority citation for part 9 continues to read as follows:

Authority: 27 U.S.C. 205.

Subpart C—Approved American Viticultural Areas

2. Subpart C is amended by adding § 9.__ to read as follows:

§ 9.__ Nine Lakes of East Tennessee.

(a) Name. The name of the viticultural area described in this section is “Nine Lakes of East Tennessee”. For purposes of part 4 of this chapter, “Nine Lakes of East Tennessee” is a term of viticultural significance.

(b) Approved maps. The 6 United States Geological Survey (USGS) 1:100,000 scale topographic maps used to determine the boundary of the Nine Lakes of East Tennessee viticultural area are:

(1) Middlesboro, KY-Tenn.-VA, 1977;

(2) Morristown, Tennessee, 1981;

(3) Knoxville, Tenn.-N.C., 1983;

(4) Oak Ridge, Tennessee, 1979;

(5) Watts Bar Lake, Tennessee, 1981; and

(6) Cleveland, Tennessee-N.C., 1981.

(c) Boundary. The Nine Lakes of East Tennessee viticultural area is located in Anderson, Blount, Campbell, Claiborne, Cocke, Grainger, Hamblen, Jefferson, Knox, Loudon, Monroe, Roane, Sevier, and Union Counties, Tennessee. The boundary of the viticultural area is as described as follows:

(1) The beginning point is on the Middlesboro map at the intersection of the shared Hancock-Claiborne County line and the shared Virginia-Tennessee State line. From the beginning point, proceed west along the Virginia-Tennessee State line for 10.13 miles to the boundary of the Cumberland Gap National Historical Park; then

(2) Proceed southwest, then northwest along the park boundary for approximately 4.78 miles to its intersection with the 500-meter elevation contour on Powell Mountain; then

(3) Proceed southwest, then northeast, then southwest along the meandering 500-meter elevation contour for approximately 11.18 miles, crossing onto the Morristown map, and continuing along the 500-meter elevation contour for approximately 10.38 miles, crossing onto the Oak Ridge map, and continuing along the 500-meter elevation contour for 8.7 miles to the point where it turns sharply northeast just east of Highway 25W and north of Lafollette; then

(4) Proceed west in a straight line for approximately 0.49 mile, crossing over Highway 25W, to the 500-meter elevation contour; then

(5) Proceed southwest, then northeast along the 500-meter elevation contour for approximately 7.46 miles to its intersection with and unnamed tributary of Bruce Creek; then

(6) Proceed west in a straight line to Interstate 75; then

(7) Proceed south in a straight line for approximately 6.34 miles to the intersection of the Campbell and Anderson County lines; then

(8) Proceed south along the shared Campbell-Anderson County line for approximately 6.28 miles, crossing over Stony Fork, to the intersection with an unnamed trail running southwest-to-northeast along Windrock Mountain; then

(9) Proceed southwest in a straight line for 9.26 miles to the intersection with the shared Anderson-Morgan County line; then

(10) Proceed southeast along the Anderson-Morgan County line for approximately 5.59 miles to its intersection with the Roane County line; then

(11) Proceed southwest along the shared Roane-Morgan County line for approximately 5.65 miles, crossing onto the Watts Bar Lake map, and continuing along the Roane-Morgan County line to its intersection with the Cumberland County line; the

(12) Proceed southwest in a straight line for approximately 8.82 miles to the intersection of the Roane and Rhea County lines and State Road 29; then

(13) Proceed southerly along the shared Roane-Rhea County line for approximately 5.47 miles to its intersection with the Meigs County line; then

(14) Proceed south-southeast along the Roane-Meigs County line to its intersection with the McMinn County line; then

(15) Proceed east along the shared Roane-McMinn County line for 1.8 miles to the intersection with the Loudon County line; then

(16) Proceed south, then easterly along the shared Loudon-McMinn County line to its intersection with the Monroe County line; then

(17) Proceed south, then southeast along the shared McMinn-Monroe County line for approximately 10.56 miles, crossing onto the Cleveland, Tennessee-North Carolina map, and continuing along the shared McMinn-Monroe County line for approximately 13.67 miles to the intersection with an unnamed highway known locally as State Road 39/Mecca Highway; then

(18) Proceed southeast along State Road 39 for approximately 3.04 miles to its intersection with the Cherokee National Forest boundary, which is concurrent with Conasauga Creek; then

(19) Proceed southeasterly, then northerly along the Cherokee National Forest boundary for approximately 23.67 miles, crossing onto the Watts Bar Lake map, and continue northeasterly, then easterly along the forest boundary for approximately 15.35 miles as it meanders east through Tellico Lake and becomes concurrent with the Blount-Monroe County line and crosses onto the Knoxville, Tennessee-North Carolina map, to the forest boundary's intersection with Abrams Creek; then

(20) Proceed north in a straight line for approximately 1,500 feet to the Great Smoky Mountains National Park boundary; then

(21) Proceed northeast, then southeast, then northeast along the park boundary line for a total of approximately 51.47 miles to its intersection with the shared Cocke-Sevier County line near Rocky Grove; then

(22) Proceed northeast in a straight line for 6.15 miles to the intersection of the Cherokee National Forest boundary with Highway 321/State Road 32 and Rabbit Branch near Allen Grove; then

(23) Proceed east along the forest boundary for 1.99 miles to its intersection with Interstate 40; then

(24) Proceed north along Interstate 40 for 2.98 miles to its intersection with Highway 321; then

(25) Proceed northeast along the forest boundary for 3.12 miles to its intersection with State Road 73 at Edwina; then

(26) Proceed northeast in a straight line for 9.2 miles, crossing onto the Morristown map, and continuing northeast in a straight line for 4.16 miles to the shared Greene-Cocke County line; then

(27) Proceed northwest along the Greene-Cocke County line to its intersection with the Hamblen County line; then

(28) Proceed northeast along the Hamblen-Greene County line to its intersection with the Hawkins County line; then

(29) Proceed northwest, then southwest along the Hawkins-Hamblen County line to its intersection with the Grainger County line; then

(30) Proceed northwesterly along the Hawkins-Grainger County line to its intersection with the Hancock County line; then

(31) Proceed west along the Grainger-Hancock County line to its intersection with the Claiborne County line; then

(32) Proceed north along the Hancock-Claiborne County line for approximately 8.14 miles, crossing onto the Middlesboro map, and continuing northwest along the Hancock-Claiborne county line for approximately 8.51 miles to return to the beginning point.

Signed: September 8, 2023.
Mary G. Ryan,
Administrator.
Approved: September 11, 2023.
Thomas C. West, Jr.,
Deputy Assistant Secretary (Tax Policy).

[FR Doc. 2023-20346 Filed 9-19-23; 8:45 am]

BILLING CODE 4810-31-P